DEPARTMENT OF THE INTERIOR

Bureau of Indian Affairs

[245A2100DD/AAKC001030/A0A501010.999900]

Indian Gaming; Extension of Tribal-State Class III Gaming Compact in California

AGENCY: Bureau of Indian Affairs, Interior.

ACTION: Notice.

SUMMARY: This notice announces the extension of the Class III gaming compact between the Alturas Indian Rancheria and the State of California.

DATES: The extension takes effect on September 20, 2024.

FOR FURTHER INFORMATION CONTACT: Ms. Paula L. Hart, Director, Office of Indian Gaming, Office of the Assistant Secretary—Indian Affairs, Washington, DC 20240, IndianGaming@bia.gov; (202) 219-4066.

SUPPLEMENTARY INFORMATION: An extension to an existing Tribal-State Class III gaming compact does not require approval by the Secretary if the extension does not modify any other terms of the compact. 25 CFR 293.5. The Alturas Indian Rancheria and the State of California have reached an agreement to extend the expiration date of their existing Tribal-State Class III gaming compact to December 31, 2024. This publication provides notice of the new expiration date of the compact.

Bryan Newland,
Assistant Secretary—Indian Affairs.

[FR Doc. 2024-21562 Filed 9-19-24; 8:45 am]

BILLING CODE 4337-15-P